FEDERAL COMMUNICATIONS COMMISSION

47 CFR Parts 22, 80, 87, 90 and 101

[WT Docket Nos. 98-20 and 96-188; RM-8677 and RM-9107; FCC 98-234 and FCC 99-139]

Facilitate the Development and Use of the Universal Licensing System in the Wireless Telecommunications Services

AGENCY: Federal Communications Commission.

ACTION: Final rule, announcement of effective date.

SUMMARY: The Wireless Telecommunications Bureau (Bureau) of the Federal Communications Commission (Commission) announces that certain rules adopted in the Universal Licensing System proceeding (WT Docket Nos. 98-20 and 96-188, FCC 98-234) in 1998, to the extent they contained information collection requirements that required approval by the Office of Management and Budget (OMB), became effective on January 21, 1999.

The Bureau also announces that certain rules adopted in the Universal Licensing System proceeding (WT Docket Nos. 98-20, and 96-188, FCC 99-139) in 1999, to the extent they contained information collection requirements that required approval by OMB, became effective on October 1, 1999.

DATES: Sections 22.105, 22.709(b)(2), 22.803(b)(2), 22.875(d)(5), 22.929(b)(2), 80.21, 80.33, 80.53, 80.469, 80.511, 80.513, 80.553, 80.605, 87.215, 87.347, 90.625, 90.683, 90.763, 101.61, and 101.701, published at 63 FR 68904 (Dec. 14, 1998), contained information collection requirements and became effective on January 21, 1999. Sections 22.529(c), 22.709(f), 22.803(c), and 22.929(d), published at 64 FR 53231 (Oct. 1, 1999), contained information collection requirements and became effective on October 1, 1999.

FOR FURTHER INFORMATION CONTACT: Richard Arsenault, Wireless Telecommunications Bureau, at (202) 418-0920, or via the Internet at Richard.Arsenault@fcc.gov. For additional information concerning the information collections contained in this document, contact Judith-B. Herman at (202) 418-0214, or via the Internet at Judith-B.Herman@fcc.gov.

Announcement of Effective Date of Certain Commission Rules

1. On December 14, 1998, the Commission published a notice in the Federal Register, 63 FR 68904, of its Report and Order (Report and Order) in the Universal Licensing System proceeding (WT Docket Nos. 98-20 and 96-188; RM-8677; FCC 98-234). In that Notice, the Commission stated that it would publish a document in the Federal Register announcing the effective date of certain rules adopted in the Report and Order—specifically §§ 22.105, 22.709(b)(2), 22.803(b)(2), 22.875(d)(5), 22.929(b)(2), 80.21, 80.33, 80.53, 80.469, 80.511, 80.513, 80.553, 80.605, 87.215, 87.347, 90.625, 90.683, 90.763, 101.61, and 101.701, to the extent that these rules contained information collection requirements that required approval by OMB. On January 21, 1999, OMB approved the public information collection associated with these rules via OMB Control No. 3060-0865. The Commission published a Notice in the Federal Register at 64 FR 9510, (Feb. 26, 1999), announcing OMB's approval. OMB Control No. 3060-0865 subsequently was modified and extended until March 31, 2007.

2. The Commission published a Notice in the Federal Register at 64 FR 68904, (Oct. 1, 1999), of its Memorandum Opinion and Order and Order on Reconsideration (Memorandum Opinion and Order and Order on Reconsideration) in the Universal Licensing System proceeding (WT Docket Nos. 98-20 and 96-188, RM-8677 and RM-9107; FCC 99-139), wherein the Commission modified certain rules. In that Notice, the Commission stated that it would publish a document in the Federal Register announcing the effective date of certain rules adopted in the Memorandum Opinion and Order and Order on Reconsideration—specifically §§ 22.529(c), 22.709(f), 22.803(c), and 22.929(d), to the extent that these rules contained information collection requirements that required approval by OMB. On September 30, 1999, OMB approved the public information collection associated with these rules via OMB Control No. 3060-0865. OMB Control No. 3060-0865 subsequently was modified and extended until March 31, 2007.

Federal Communications Commission.
Marlene H. Dortch,
Secretary.

[FR Doc. 05-6949 Filed 4-12-05; 8:45 am]

BILLING CODE 6712-01-P